FEDERAL COMMUNICATIONS COMMISSION

47 CFR Parts 2, 25, and 30

[GN Docket No. 14-177; WT Docket No. 10-112; FCC 18-73]

Use of Spectrum Bands Above 24 GHz for Mobile Radio Services

Correction

In rule document 2018-14806 appearing on pages 34478-34492 in the issue of July 20, 2018, make the following correction:

§ 2.106 [Corrected]

On pages 34487-34488, the table is corrected to read as set forth below:

BILLING CODE 1301-00-D

[FR Doc. C1-2018-14806 Filed 4-24-19; 8:45 am]

BILLING CODE 1301-00-C